DEPARTMENT OF ENERGY

Federal Energy Regulatory Commission

Combined Notice of Filings #1

Take notice that the Commission received the following electric rate filings:

Docket Numbers: ER15-1434-004.

Applicants: ISO New England Inc., Emera Maine.

Description: Compliance filing: Emera Maine; Joint Offer of Settlement Re: Bangor Hydro District Charges to be effective N/A.

Filed Date: 3/19/20.

Accession Number: 20200319-5013.

Comments Due: 5 p.m. ET 4/9/20.

Docket Numbers: ER19-1890-001.

Applicants: MATL LLP.

Description: Compliance filing: Order No. 845 Compliance Filing (Docket No. ER19-1890-001) to be effective 5/22/2019.

Filed Date: 3/20/20.

Accession Number: 20200320-5046.

Comments Due: 5 p.m. ET 4/10/20.

Docket Numbers: ER20-660-000.

Applicants: Bolt Energy Marketing, LLC.

Description: Report Filing: Response to Request for Additional Information to be effective N/A.

Filed Date: 3/19/20.

Accession Number: 20200319-5145.

Comments Due: 5 p.m. ET 4/9/20.

Docket Numbers: ER20-715-001.

Applicants: Central Hudson Gas & Electric Corporation, New York Independent System Operator, Inc.

Description: Tariff Amendment: Central Hudson response to FERC deficiency letter to be effective 5/20/2020.

Filed Date: 3/20/20.

Accession Number: 20200320-5110.

Comments Due: 5 p.m. ET 4/10/20.

Docket Numbers: ER20-1351-000.

Applicants: Southwest Power Pool, Inc.

Description: § 205(d) Rate Filing: 3641 Haystack Wind Project, LLC GIA to be effective 3/12/2020.

Filed Date: 3/20/20.

Accession Number: 20200320-5016.

Comments Due: 5 p.m. ET 4/10/20.

Docket Numbers: ER20-1352-000.

Applicants: Niagara Mohawk Power Corporation, New York Independent System Operator, Inc.

Description: § 205(d) Rate Filing: Cost Reimbursement Agreement (SA 2528) Niagara Mohawk & Lake Placid Village to be effective 2/21/2020.

Filed Date: 3/20/20.

Accession Number: 20200320-5044.

Comments Due: 5 p.m. ET 4/10/20.

Docket Numbers: ER20-1353-000.

Applicants: Public Service Company of Colorado.

Description: § 205(d) Rate Filing: PSCo-HLYCRS-O&M-0.1.0-Filing to be effective 3/21/2020.

Filed Date: 3/20/20.

Accession Number: 20200320-5049.

Comments Due: 5 p.m. ET 4/10/20.

Docket Numbers: ER20-1355-000.

Applicants: Midcontinent Independent System Operator, Inc.

Description: § 205(d) Rate Filing: 2020-03-20_SA 3452 Entergy Arkansas-Helena Harbor Solar Park GIA (J663) to be effective 3/6/2020.

Filed Date: 3/20/20.

Accession Number: 20200320-5069.

Comments Due: 5 p.m. ET 4/10/20.

Docket Numbers: ER20-1356-000.

Applicants: Mid-Atlantic Interstate Transmission, LL, PJM Interconnection, L.L.C.

Description: § 205(d) Rate Filing: MAIT submits Operating and Interconnection Agreement, SA No. 4578 with Penelec to be effective 5/19/2020.

Filed Date: 3/20/20.

Accession Number: 20200320-5103.

Comments Due: 5 p.m. ET 4/10/20.

Docket Numbers: ER20-1357-000.

Applicants: Midcontinent Independent System Operator, Inc.

Description: § 205(d) Rate Filing: 2020-03-20_SA 3445 MidAmerican Energy Company-Plymouth Wind Energy GIA (J748) to be effective 3/6/2020.

Filed Date: 3/20/20.

Accession Number: 20200320-5104.

Comments Due: 5 p.m. ET 4/10/20.

Docket Numbers: ER20-1358-000.

Applicants: PJM Interconnection, L.L.C.

Description: § 205(d) Rate Filing: Original ISA, SA No. 5605; Queue No. AC1-222/AD1-055 to be effective 2/24/2020.

Filed Date: 3/20/20.

Accession Number: 20200320-5108.

Comments Due: 5 p.m. ET 4/10/20.

Docket Numbers: ER20-1359-000.

Applicants: Scylla Energy LLC.

Description: Tariff Cancellation: Cancellation of MBR Tariff to be effective 3/23/2020.

Filed Date: 3/20/20.

Accession Number: 20200320-5124.

Comments Due: 5 p.m. ET 4/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2020.
Nathaniel J. Davis, Sr.,
Deputy Secretary.

[FR Doc. 2020-06319 Filed 3-25-20; 8:45 am]

BILLING CODE 6717-01-P